FEDERAL RESERVE SYSTEM

Government in the Sunshine Meeting Notice

Agency Holding the Meeting: Board of Governors of the Federal Reserve System.

Time and Date: 11:30 a.m., Tuesday, September 2, 2003.

Place: Marriner S. Eccles Federal Reserve Board Building, 20th and C Streets, NW., Washington, D.C. 20551.

Status: Closed.

Matters to be Considered: 1. Personal actions (appointments, promotions, assignments, reassignments, and salary actions) involving individual Federal Reserve System employees.

2. Any items carried forward from a previously announced meeting.

FOR MORE INFORMATION PLEASE CONTACT: Michelle A. Smith, Assistant to the Board; 202-452-2955.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: August 22, 2003.
Robert deV. Frierson,
Deputy Secretary of the Board.

[FR Doc. 03-21967 Filed 8-22-03; 2:35 pm]

BILLING CODE 6210-01-M